DEPARTMENT OF TRANSPORTATION

Office of the Secretary

[Docket Number DOT-OST-2008-0320]

Request for OMB Clearance of an Information Collection

AGENCY: Office of the Secretary (OST), DOT.

ACTION: Notice and request for comments.

SUMMARY: In compliance with the Paperwork Reduction Act of 1995, (44 U.S.C. 3501 et seq.), the U.S. Department of Transportation invites the general public, industry and other governmental parties to comment on the information collection request (ICR) OMB No. 2105-0009, Advisory Committee Candidate Biographical Information Request Form. The current information collection request approved by the Office of Management and Budget (OMB) expires on March 31, 2009.

DATES: Written comments should be submitted by January 20, 2009.

FOR FURTHER INFORMATION CONTACT: Lisa L. Hough, Committee Management Officer, Executive Secretariat, U.S. Department of Transportation, 1200 New Jersey Avenue, SE., Washington, DC 20590-0001 or telephone: (202) 366-4277. Refer to OMB Control No. 2105-0009.

ADDRESSES: You may submit comments to DOT-OST-2008-0320 through one of the following methods: Web site: http://www.regulations.gov. Follow the instructions for submitting comments on the DOT electronic docket site.

Fax: 1-202-493-2251.

Mail: Docket Management Facility; U.S. Department of Transportation, 1200 New Jersey Avenue, SE., West Building, Room W12-140, Washington, DC 20590-001.

Hand Delivery: Room W12-140 on the ground level of the West Building, 1200 New Jersey Avenue, SE., Washington, DC, between 9 a.m. and 5 p.m., Monday through Friday, except Wednesday and Federal Holidays.

Instructions: All comments must include the agency name and DOT-OST-2008-0320. Note that all comments received will be posted without change to http://www.regulations.gov, including personal information provided. You should know that anyone is able to search the electronic form of all comments received into any of our dockets by the name of the individual submitting the comment (or signing the comment, if submitted on behalf of an association, business, labor union, etc.) You may review DOT's complete Privacy Act Statement in the Federal Register published on (insert date of published) (FRN citation) or you may visit http://www.regulations.gov.

Docket: For access to the docket to read background documents or comments, go to http://www.regulations.gov at any time or to Room W12-140 on the ground level of the West Building, 1200 New Jersey Avenue, SE., Washington, DC, between 9 a.m. and 5 a.m., Monday through Friday, except Wednesday and Federal holidays.

If you wish to receive confirmation of receipt of your written comments, please include a self-addressed, stamped postcard with the following statement: “Comments on Docket DOT-OST-2008-0320.” The Docket Clerk will date stamp the postcard prior to returning it to you via the U.S. mail. Please note that due to delays in the delivery of U.S. mail to Federal offices in Washington, DC, we recommend that persons consider an alternative method (Internet, fax, or professional delivery service) to submit comments to the docket and ensure their timely receipt at U.S. DOT.

SUPPLEMENTARY INFORMATION: Title: Advisory Committee Candidate Biographical Information Request.

OMB Control No.: 2105-0009.

Type of Review: Extension without change for currently approved information collection.

Form No.: DOT F1120.1.

Abstract: The requested extension of the approved control number covers the information collection request (ICR) OMB No. 2105-0009, “Advisory Committee Candidate Biographical Information Request,” and will be used to gather information from individuals interested in appointment to an advisory committee and individuals who have been recommended for a membership on an advisory committee to ensure fair and balanced membership.

Respondents: Individuals who have contacted DOT to indicate interest in appointment to an advisory committee and individuals who have been recommended for membership on an advisory committee. Only one collection is expected per individual.

Number of Respondents: 100 annually.

Estimated Time per Response: 15 minutes.

Total Annual Burden: 25 hours.

Comments are invited on: (a) Whether the proposed collection of information is necessary for the proper performance of the functions of the Department, including whether the information will be have practical utility; (b) the accuracy of the Department's estimate of burden of the proposed information collection; (c) ways to enhance the quality, utility, and clarity of the information collection; and (d) ways to minimize the collection of information on the respondents, including the use of automated collection techniques or other forms of information technology without reducing the quality of the information collected.

All comments will become a matter of public record.

Issued in Washington, DC, on November 10, 2008.
Tracey M. Jackson,
Office of the Chief Information Officer.

[FR Doc. E8-27325 Filed 11-17-08; 8:45 am]

BILLING CODE 4910-9X-P